DEPARTMENT OF STATE

[Delegation of Authority No. 401]

Delegation of Authority Submission of the Semi-Annual Unified Agenda

By virtue of the authority vested in the Secretary of State by the laws of the United States, including 22 U.S.C. 2651a, and delegated pursuant to Delegation of Authority 198, dated September 16, 1992, I hereby delegate to the Assistant Legal Adviser for Management, to the extent authorized by law, the authority to approve, and submit for publication in the Federal Register, the Department's semi-annual submission to the Unified Agenda of Regulatory and Deregulatory Actions.

Prior to submission of the Unified Agenda, the Assistant Legal Adviser shall ensure that the Office of the Under Secretary for Management and all other relevant offices have approved such submission.

Notwithstanding this delegation of authority, the authority delegated herein may be exercised by the Secretary, the Deputy Secretary, the Deputy Secretary for Management and Resources, and the Under Secretary for Management.

This document shall be published in the Federal Register.

Dated: August 2, 2016.
Patrick F. Kennedy,
Under Secretary for Management, Department of State.

[FR Doc. 2016-19395 Filed 8-12-16; 8:45 am]

BILLING CODE 4710-08-P